DEPARTMENT OF VETERANS AFFAIRS

Construction Advisory Board; Notice of Meeting

The Department of Veterans Affairs (VA) gives notice under Public Law 92-463 (Federal Advisory Committee Act) that a meeting of the Construction Advisory Board will be held on Tuesday November 15, 2005, at the Department of Veterans Affairs, 810 Vermont Avenue NW., Room 430, Washington, DC. The meeting will begin at 1 p.m. and end at 5 p.m.

The purpose of the Board is to provide advice to the Secretary of the Department of Veterans Affairs regarding VA construction. The Board will make recommendations to the Secretary on the nature and scope of the Department's construction processes.

The meeting will be open to the public from 1 p.m. to 2 p.m., with an opportunity for public comments during that period. The Board will discuss its final recommendations to the Secretary. From 2 p.m. to 5 p.m., the Board will discuss selected personnel matters affecting the management of VA's construction program. To protect personal privacy and in accordance with 5 U.S.C. 552b(c)(6), that portion of the meeting will be closed.

Members of the public may direct questions or submit written statements for review by the Board in advance of the meeting. Any member of the public wishing to make a brief oral presentation or to attend the meeting should contact Doug Belling, Designated Federal Officer, at the Office of Asset Enterprise Management (004B), Department of Veterans Affairs, 810 Vermont Avenue, NW., Washington, DC 20420, or by telephone at (202) 273-6675.

Dated: October 27, 2005.
By Direction of the Secretary.
E. Philip Riggin,
Committee Management Officer.

[FR Doc. 05-21891 Filed 11-2-05; 8:45 am]

BILLING CODE 8320-01-M